DEPARTMENT OF COMMERCE

National Oceanic and Atmospheric Administration

RIN 0648-XF478

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council's) Summer Flounder, Scup, and Black Sea Bass Advisory Panel (AP) will hold a public meeting, jointly with the Atlantic States Marine Fisheries Commission's (ASMFC) Summer Flounder, Scup, and Black Sea Bass Advisory Panel.

DATES: The meeting will be held on Wednesday, June 28, 2017, from 10 a.m. until 4:30 p.m.

ADDRESSES: Meeting address: The meeting will be held at the Double Tree by Hilton Baltimore -BWI Airport, 890 Elkridge Landing Road, Linthicum, MD 21090; telephone: (410) 859-8400.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council; telephone: (302) 526-5255.

SUPPLEMENTARY INFORMATION: The Council's Summer Flounder, Scup, and Black Sea Bass AP will meet jointly with the ASMFC's Summer Flounder, Scup, and Black Sea Bass AP. The purpose of this meeting is to discuss recent performance of the commercial and recreational fisheries for summer flounder, scup, and black sea bass, and develop annual Fishery Performance Reports for these fisheries. The Council and the ASMFC will consider the Fishery Performance Reports later in 2017 when reviewing previously implemented 2018 fishery specifications (i.e., catch and landings limits and management measures) for all three species, and possibly recommending 2019 specifications for scup. The AP will also discuss commercial summer flounder management alternatives under development for the Council and ASMFC's ongoing Comprehensive Summer Flounder Amendment.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Special Accommodations

The meeting is physically accessible to people with disabilities. Requests for sign language interpretation or other auxiliary aid should be directed to M. Jan Saunders, (302) 526-5251, at least 5 days prior to the meeting date.

Dated: June 8, 2017.
Tracey L. Thompson,
Acting Deputy Director, Office of Sustainable Fisheries, National Marine Fisheries Service.

[FR Doc. 2017-12254 Filed 6-13-17; 8:45 am]

BILLING CODE 3510-22-P